FEDERAL COMMUNICATIONS COMMISSION

47 CFR Part 25

[IB Docket No. 12-267, 11-43; FCC 13-111]

Rules Governing the Licensing of, and Spectrum Usage by, Commercial Earth Stations and Space Stations

AGENCY: Federal Communications Commission.

ACTION: Final rule; announcement of effective date.

SUMMARY: In this document, the Commission announces that the Office of Management and Budget (OMB) has approved, for a period of three years, the information collection associated with the Commission's Report and Order adopting comprehensive changes to the Commission's rules governing licensing and operation of space stations and earth stations for the provision of satellite communication services. This document is consistent with the Report and Order, which stated that the Commission would publish a document in the Federal Register announcing OMB approval and the effective date of all of the rule changes adopted in the Report and Order.

DATES: 47 CFR 25.170, 25.171, 25.172, 25.173, 25.285, 25.286, and 25.287, and the amendments to 47 CFR 25.103, 25.111, 25.112, 25.113, 25.114, 25.115, 25.118, 25.121, 25.129, 25.130, 25.131, 25.132, 25.133, 25.134, 25.135, 25.136, 25.138, 25.140, 25.142, 25.143, 25.144, 25.145, 25.146, 25.153, 25.154, 25.161, 25.164, 25.201, 25.202, 25.203, 25.204, 25.206, 25.208, 25.209, 25.210, 25.211, 25.212, 25.214, 25.215, 25.217, 25.218, 25.220, 25.221, 25.222, 25.223, 25.226, 25.227, 25.259, 25.260, 25.271, 25.272, 25.276, and 25.281 published February 12, 2014 (79 FR 8308) are effective September 3, 2014.

The incorporation by reference of certain publications listed in 47 CFR 25.281 is approved by the Director of the Federal Register as of September 3, 2014.

FOR FURTHER INFORMATION CONTACT: For additional information contact Cathy Williams, Cathy.Williams@fcc.gov, (202) 418-2918.

SUPPLEMENTARY INFORMATION: This document announces that, on August 15, 2014, OMB approved the information collection requirements contained in the Commission's Report and Order, FCC 13-111, published at 79 FR 8308, February 12, 2014. The OMB Control Number is 3060-0678. While not all the revisions to part 25 adopted in the Report and Order required approval by OMB under the PRA, many did. Those requirements could not go into effect until OMB approved the information collection requirements and the Commission published a notice announcing the effective date of those requirements. To avoid confusion, all rule changes adopted in the Report and Order will become effective on the same date. The Commission publishes this notice as an announcement of the effective date of the requirements. Publication of this effective date announcement does not alter the revisions and amendments made to the publication of FCC 13-111 at 79 FR 8308 in 79 FR 44312 (47 CFR 25.140(b)); 79 FR 44140 (47 CFR 25.285(a)(2)); 79 FR 27502 (47 CFR 25.149(a)(1)); or 79 FR 27503 (47 CFR 25.113). Additionally, the Definition of Earth Stations Aboard Aircraft in 47 CFR 25.103 adopted April 17, 2014, and released on April 18, 2014 (FCC 14-45), should remain as published at 79 FR 26863, May 12, 2014; effective June 11, 2014. If you have any comments on the burden estimates listed below, or how the Commission can improve the collections and reduce any burdens caused thereby, please contact Cathy Williams, Federal Communications Commission, Room 1-C823, 445 12th Street SW., Washington, DC 20554. Please include the OMB Control Number, 3060-0678, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis: As required by the Paperwork Reduction Act of 1995 (44 U.S.C. 3507), the FCC is notifying the public that it received OMB approval on August 15, 2014, for the new information collection requirements contained in the Commission's rules at 47 CFR 25.140, 25.145, 25.146, 25.264, 25.144, 25.142, 25.143, 25.115, 25.130, 25.132, 25.111, 25.114, 25.133, 25.218, 25.220, 25.203, 25.138, 25.131, 25.134, 25.221, 25.222, 25.226, 25.227, 25.129, 25.135, 25.223, 25.144, 25.121, 25.170, 25.113, 25.118, 25.143, 25.173, 25.171, 25.172, 25.259, 25.260, 25.164.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0678.

The foregoing notice is required by the Paperwork Reduction Act of 1995, Pub. L. 104-13, October 1, 1995, and 44 U.S.C. 3507.

The total annual reporting burdens and costs for the respondents are as follows:

OMB Control Number: 3060-0678.

OMB Approval Date: August 15, 2014.

OMB Expiration Date: August 31, 2017.

Title: Part 25 of the Federal Communications Commission's Rules: Governing the Licensing of, and Spectrum Usage By, Commercial Earth Stations and Space Stations.

Form No.: FCC Form 312—Main, FCC Form 312—Schedule A, FCC Form 312—Schedule B, FCC Form 312-R, FCC Form 312-EZ, FCC Form 312—Schedule S.

Respondents: Business or other for-profit entities.

Number of Respondents and Responses: 4,880 respondents and 4,928 responses.

Estimated Time per Response: 0.5 to 80 hours.

Frequency of Response: On occasion, one time and annual reporting requirements; third-party disclosure requirement; recordkeeping requirement.

Obligation to Respond: Required to obtain or retain benefits. The statutory authority for this collection is contained in 47 U.S.C. 154, 301, 302, 303, 307, 308, 309, 332 and 705 unless otherwise noted.

Total Annual Burden: 34,155 hours.

Total Annual Cost: $9,998,785.

Nature and Extent of Confidentiality: In general, there is no need for confidentiality with this collection of information.

Privacy Impact Assessment: No impact(s).

Needs and Uses: On August 9, 2013, the Federal Communications Commission (Commission) released a Report and Order (R&O) titled, “In the Comprehensive Review of Licensing and Operating Rules for Satellite Services,” FCC 13-111. In this R&O, the Commission adopted comprehensive changes to Part 25 of the Commission's rules, which governs licensing and operation of space stations and earth stations for the provision of satellite communication services. Many of the amendments are substantive changes intended to afford licensees as much operational flexibility as possible consistent with minimizing harmful interference and easing administrative burdens on licensees, applicants, and the Commission. Additionally, this information collection is revised by incorporating existing separate information collection requirements under Part 25 into this information collection. Specifically, the revision of OMB Control No. 3060-0678 (Part 25 of the Commission's Rules) consolidated information collections that were approved under OMB Control Nos. 3060-0768 (28 GHz Band Segmentation Plan), 3060-0955 (2 GHz Mobile Satellite Service Reports), 3060-0962 (Redesignation of the 18 GHz Band), 3060-0994 (Flexibility for Delivery of Communications by MSS Providers), 3060-1013 (Mitigation of Orbital Debris), 3060-1014 (Ku-band NGSO FSS), 3060-1059 (Global Mobile Personal Communications by Satellite (GMPCS)/E911 Call Centers), 3060-1061 (Earth Stations on Board Vessels (ESVs)), 3060-1066 (Renewal of Application for Satellite Space and Earth Station Authorization), 3060-1067 (Qualification Questions), 3060-1095 (Surrenders of Authorizations), 3060-1097 (Rules for Broadcasting Satellite Service), 3060-1106 (Vehicle Mounted Earth Stations (VMES)), 3060-1108 (Consummation of Assignments and Transfers of Control), 3060-1153 (Satellite Digital Radio Service (SDARS)), and 3060-1187 (Earth Stations Aboard Aircraft (ESAA)) into collection 3060-0678. Therefore, the number of respondents, number of responses, annual burden hours and annual costs have been amended from the previous submission that was approved by the Office of Management and Budget (OMB) on March 13, 2013.

The information collection requirements accounted for in this collection are needed to determine the technical and legal qualifications of applicants or licensees to operate a station and to determine whether the authorization is in the public interest, convenience, and necessity. Without such information, the Commission could not determine whether to permit respondents to provide telecommunications services in the United States. Therefore, the Commission would not be able to fulfill its statutory responsibilities in accordance with the Communications Act of 1934, as amended, and the obligations imposed on parties to the World Trade Organization (WTO) Basic Telecom Agreement.

Federal Communications Commission.
Gloria J. Miles,
Federal Register Liaison.

[FR Doc. 2014-20578 Filed 9-2-14; 8:45 am]

BILLING CODE 6712-01-P